DEPARTMENT OF TRANSPORTATION

Surface Transportation Board

[STB Finance Docket No. 34518]

Central Illinois Railroad Company—Operation Exemption—Rail Line of the City of Peoria and the Village of Peoria Heights in Peoria and Peoria Heights, Peoria County, IL

Central Illinois Railroad Company (CIRY), a Class III rail carrier, has filed a verified notice of exemption under 49 CFR 1150.41, et seq., to operate a line of railroad owned by the City of Peoria and the Village of Peoria Heights, IL (the Cities), known as the Kellar Branch, and also known as the Peoria, Peoria Heights & Western Railroad. The line extends from EPS 80+15 (milepost 1.71) to EPS 516+21 (milepost 10.0), a distance of 8.29 miles in Peoria County, IL. CIRY states that the notice has been filed at the request of the Cities for CIRY to replace the current operator of the line, Pioneer Industrial Railway Company (PIRY), upon expiration of the operating agreement between the Cities and PIRY on July 10, 2004.¹

¹ In the notice, CIRY indicated that PIRY has made it known that it will refuse to voluntarily give up its authority to operate over the branch, and that it will be necessary for the Cities to file an application for adverse discontinuance of PIRY's operation. On June 30, 2004, PIRY filed a petition to reject or revoke the notice or, alternatively, to stay its effectiveness. CIRY filed a reply on July 1, 2004. The stay request was denied by decision served on July 1, 2004. However, to assure coordination of dispatching of both PIRY's and CIRY's operations on the line, the decision required that CIRY certify to the Board that coordination protocols for dual operations were in place before CIRY could commence operations. The rejection/revocation request will be addressed in a separate Board decision.

Certification is made that CIRY's projected revenues as a result of the transaction will not result in the creation of a Class II or Class I rail carrier. The transaction was scheduled to be consummated no earlier than July 5, 2004 (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34518, must be filed with the Surface Transportation Board, 1925 K Street, NW., Washington, DC 20423-0001. In addition, a copy of each pleading must be served on Thomas F. McFarland, 208 South LaSalle Street, Suite 1890, Chicago, IL 60604-1112.

Board decisions and notices are available on our Web site at http://www.stb.dot.gov.

Decided: July 20, 2004.
By the Board, David M. Konschnik, Director, Office of Proceedings.
Vernon A. Williams,
Secretary.

[FR Doc. 04-16931 Filed 7-27-04; 8:45 am]

BILLING CODE 4915-01-P